FEDERAL RESERVE SYSTEM

[Docket No. OP-1831]

Expanded Hours for Fedwire Funds Service & National Settlement Service

AGENCY: Board of Governors of the Federal Reserve System.

ACTION: Request for comment; extension of comment period.

SUMMARY: On May 9, 2024, the Board of Governors of the Federal Reserve System (Board) published in the Federal Register a proposal to expand the operating hours of the Fedwire® Funds Service and the National Settlement Service (NSS). The Board proposed to expand the operating hours of the Fedwire Funds Service to 22 hours per day, 7 days per week, every day of the year (22x7x365) and to correspondingly expand the operating hours of NSS, with NSS closing 30 minutes earlier than the Fedwire Funds Service. The proposal provided for a comment period ending on July 8, 2024. The Board is extending the comment period for 60 days, until September 6, 2024.

DATES: The notification published on May 9, 2024 (89 FR 39613), is extended. Comments must be received by September 6, 2024.

ADDRESSES: You may submit comments by any of the methods identified in the proposal.

FOR FURTHER INFORMATION CONTACT: Mark Magro, Manager, Division of Reserve Bank Operations and Payment Systems (202-452-3944); Ann Sun, Lead Financial Institution Policy Analyst, Division of Reserve Bank Operations and Payment Systems (202-912-7938); Gavin Smith, Senior Counsel, Legal Division (202 452-3474); or Corinne Milliken Van Ness, Senior Counsel, Legal Division (202-452-2421), Board of Governors of the Federal Reserve System. For users of TTY-TRS, please call 711 from any telephone, anywhere in the United States.

SUPPLEMENTARY INFORMATION: On May 9, 2024, the Board of Governors of the Federal Reserve System (Board) published a proposal to expand the operating hours of the Fedwire® Funds Service and the National Settlement Service (NSS) in the Federal Register. The Board proposed to expand the operating hours of the Fedwire Funds Service to 22 hours per day, 7 days per week, every day of the year (22x7x365) and to correspondingly expand the operating hours of the NSS, with the NSS closing 30 minutes earlier than the Fedwire Funds Service.¹

¹ 89 FR 39613 (May 9, 2024).

The proposal provided for a comment period ending on July 8, 2024. The Board is extending the comment period for 60 days, until September 6, 2024. Since the publication of the proposal, the Board has received comments requesting an extension of the comment period. An extension of the comment period will provide additional opportunity for interested parties to analyze the proposal and prepare and submit comments. Therefore, the Board is extending the end of the comment period for the proposal from July 8, 2024, to September 6, 2024.

By order of the Board of Governors of the Federal Reserve System, acting through the Secretary of the Board under delegated authority.
Ann E. Misback,
Secretary of the Board.

[FR Doc. 2024-14018 Filed 6-25-24; 8:45 am]

BILLING CODE P